DEPARTMENT OF THE INTERIOR

Fish and Wildlife Service

Notice of Availability of the Devils River Minnow Draft Recovery Plan

AGENCY: Fish and Wildlife Service, Interior.

ACTION: Notice of document availability.

SUMMARY: The U.S. Fish and Wildlife Service (Service) announces the availability for public review of the Devils River Minnow Draft Recovery Plan. The Devils River minnow (Dionda diaboli) is known to occur in streams in Kinney and Val Verde Counties, Texas, and Coahila, Mexico. The Service solicits review and comment from the public on this Draft Recovery Plan.

DATES: The comment period for this Draft Recovery Plan closes April 11, 2005. Comments on the Draft Recovery Plan must be received by the closing date to assure consideration.

ADDRESSES: Persons wishing to review the Draft Recovery Plan can obtain a copy from the U.S. Fish and Wildlife Service, Austin Ecological Services Field Office, 10711 Burnet Road, Suite 200, Austin, Texas 78758. The Draft Recovery Plan may also be obtained from the Internet at http://southwest.fws.gov/htopic.html/ and http://ifw2es.fws.gov/AustinTexas/. Comments and materials concerning this Draft Recovery Plan may be mailed to “Field Supervisor” at the address above.

FOR FURTHER INFORMATION CONTACT: Robert Pine, Austin Ecological Services Field Office, at the above address; telephone (512) 490-0057, facsimile (512) 490-0974.

SUPPLEMENTARY INFORMATION:

Background

The Devils River minnow (Dionda diaboli) was listed as threatened on October 20, 1999, under authority of the Endangered Species Act of 1973, as amended (64 FR 56596). The threats facing the survival and recovery of this species include habitat loss due to declining surface water flows from springs, pollution to streams, and impacts from nonnative species. The Draft Recovery Plan includes information about the species and provides objectives and actions needed to delist the species.

The delisting criteria proposed in the Draft Plan state that the Devils River minnow should be considered for delisting when:

(1) Population monitoring results verify stable or increasing Devils River minnow population trends for at least 10 years, throughout its range, including Devils River (middle portion), San Felipe Creek, Sycamore Creek, and Pinto Creek in Texas. Stable populations should also be confirmed in the Río Salado drainage in Mexico and in Las Moras Creek, if reestablishment is scientifically feasible; (2) Flows in streams supporting Devils River minnow have been assured, including Las Moras Creek (if reestablishment is feasible), through State or local groundwater management plans, water conservation plans, drought contingency plans, regulations, or equivalent binding documents; (3) Protection, where necessary, of surface water quality is ensured by demonstrated compliance with water quality standards and implementation of water quality controls, particularly in urban areas such as the cities of Del Rio and Brackettville; and, (4) Management and control of nonnative species by local, regional, State, and Federal authorities are demonstrated to be successful.

A summary of high-priority recovery tasks includes actions to: (1) Maintain and enhance Devils River minnow populations and habitats by monitoring rangewide status, determining biological and ecological requirements, identifying specific habitat requirements, and managing existing Devils River minnow habitat; (2) Establish additional Devils River minnow populations within the historic range, specifically in Las Moras Creek, by developing and implementing a reintroduction plan, developing landowner cooperative agreements, and restoring habitat conditions at former sites of occurrence; and (3) Maintain genetic reserves of Devils River minnow through captive propagation by developing and implementing a genetics management plan and maintaining at least two captive populations until no longer needed.

Restoring an endangered or threatened animal or plant to the point where it is again a secure, self-sustaining member of its ecosystem is a primary goal of the Service's endangered species program. To help guide the recovery effort, the Service is working to prepare recovery plans for most of the listed species native to the United States. Recovery plans describe actions considered necessary for conservation of species, establish criteria for downlisting or delisting them, and estimate time and cost for implementing the recovery measures needed.

The Endangered Species Act of 1973 (Act), as amended (16 U.S.C. 1531 et seq.), requires the development of recovery plans for listed species unless such a plan would not promote the conservation of a particular species. Section 4(f) of the Act, as amended in 1988, requires that public notice and an opportunity for public review and comment be provided during recovery plan development. The Service considers all information presented during a public comment period prior to approval of each new or revised recovery plan. The Service and others also take these comments into account in the course of implementing recovery plans.

The Devils River Minnow Draft Recovery Plan is being submitted for review to all interested parties, including independent peer review. After consideration of comments received during the review period, the recovery plan will be submitted for final approval.

Public Comments Solicited

The Service solicits written comments on the recovery plan described. All comment received by the date specified above will be considered prior to approval of the recovery plan.

Authority

The authority for this action is Section 4(f) of the Endangered Species Act, 16 U.S.C. 1533(f).

Dated: January 19, 2005.
Geoffrey L. Haskett,
Acting Regional Director: Region 2.

[FR Doc. 05-3411 Filed 2-22-05; 8:45 am]

BILLING CODE 4310-55-P